INTERNATIONAL TRADE COMMISSION

[Investigation Nos. 731-TA-1174-1175 (Second Review)]

Seamless Refined Copper Pipe and Tube From China and Mexico

Determination

On the basis of the record ¹ developed in the subject five-year reviews, the United States International Trade Commission (“Commission”) determines, pursuant to the Tariff Act of 1930 (“the Act”), that revocation of the antidumping duty orders on seamless refined copper pipe and tube from China and Mexico would be likely to lead to continuation or recurrence of material injury to an industry in the United States within a reasonably foreseeable time.

¹ The record is defined in § 207.2(f) of the Commission's Rules of Practice and Procedure (19 CFR 207.2(f)).

Background

The Commission instituted these reviews on November 1, 2021 (86 FR 60287) and determined on February 4, 2022, that it would conduct expedited reviews (87 FR 18817, March 31, 2022).

The Commission made these determinations pursuant to section 751(c) of the Act (19 U.S.C. 1675(c)). It completed and filed its determinations in these reviews on May 11, 2022. The views of the Commission are contained in USITC Publication 5323 (May 2022), entitled Seamless Refined Copper Pipe and Tube from China and Mexico: Investigation Nos. 731-TA-1174-1175 (Second Review).

By order of the Commission.
Issued: May 11, 2022.
Lisa Barton,
Secretary to the Commission.

[FR Doc. 2022-10517 Filed 5-16-22; 8:45 am]

BILLING CODE 7020-02-P